NATIONAL SCIENCE FOUNDATION

NSF-NASA Astronomy and Astrophysics Advisory Committee #13883; Notice of Meeting, Correction

This notice serves to correct the dates of the December 17, 2004 Notice of Meeting announcing a meeting on January 18-19, 2005. There will not be a meeting January 18-19, 2005. Please see correct information below.

In accordance with the Federal Advisory Committee Act (Pub. L. 92-463, as amended), the National Science Foundation announces the following NSF-NASA Astronomy and Astrophysics Advisory Committee (#13883) meeting:

Date and Time: February 15-16, 2005, 8 a.m.-5 p.m.

Place: National Science Foundation, Room 1235, 4201 Wilson Blvd., Arlington, VA, 22230.

Type of Meeting: Open.

Contact Person: Dr. G. Wayne Van Citters, Director, Division of Astronomical Sciences, Suite 1045, National Science Foundation, 4201 Wilson Blvd., Arlington, VA 22230. Telephone: 703-292-4908.

Purpose of Meeting: To provide advice and recommendations to the National Science Foundation (NSF) and the National Aeronautics and Space Administration (NASA) on issues within the field of astronomy and astrophysics that are of mutual interest and concern to the two agencies.

Agenda: To hear presentations of current programming by representatives from NSF, NASA and other agencies relevant to astronomy and astrophysics; to discuss current and potential areas of cooperation between the agencies; to formulate recommendations for continued and new areas of cooperation and mechanisms for achieving them.

Dated: January 4, 2005.
Susanne E. Bolton,
Committee Management Officer.

[FR Doc. 05-365 Filed 1-6-04; 8:45 am]

BILLING CODE 7555-01-M